ENVIRONMENTAL PROTECTION AGENCY

[EPA-HQ-OPP-2009-0135; FRL-8407-3]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations.

DATES: Unless a request is withdrawn by September 14, 2009 or April 17, 2009 for registrations for which the registrant requested a waiver of the 180-day comment period, orders will be issued canceling these registrations. The Agency will consider withdrawal requests postmarked no later than September 14, 2009 or April 17, 2009, whichever is applicable. Comments must be received on or before September 14, 2009 or April 17, 2009, for those registrations where the 180-day comment period has been waived.

ADDRESSES: Submit your comments and your withdrawal request, identified by docket identification (ID) number EPA-HQ-OPP-2009-0135, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001. Please direct written withdrawal requests to the attention of: John Jamula, Information Technology and Resources Management Division (7502P).

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

Instructions: Direct your comments to docket ID number EPA-HQ-OPP-2009-0135. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: John Jamula, Information Technology and Resources Management Division, Office of Pesticide Programs, Environmental Protection Agency, 1200 Pennsylvania Ave., NW., Washington, DC 20460-0001; telephone number: (703) 305-6426; e-mail address: jamula.john@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What Action is the Agency Taking?

This notice announces receipt by the Agency of applications from registrants to cancel 411 pesticide products registered under section 3 or 24(c) of FIFRA. These registrations are listed in sequence by registration number (or company number and 24(c) number) in Table 1 of this unit:

Table 1—Registrations With Pending Requests for Cancellation
Registration no. | Product Name | Chemical Name
000004-00333 | Bonide Slug, Snail & Sowbug Bait | Metaldehyde
|  | Carbaryl
000004-00334 | Bonide Slug and Snail Beater | Metaldehyde
000004-00351 | Last Slime Slug-N-Snail Beater Rtu | Metaldehyde
000004-00352 | Bonide Last Slime Slug-N-Snail Beater | Metaldehyde
000004-00442 | N-Slugs-N-Snails | Metaldehyde
000004-00451 | Bonide Snail-N- Slug Beater | Metaldehyde
000004-00452 | N-Snails-N-Slugs | Metaldehyde
000004-00453 | Bonide Snail-N- Slug Beater Concentrate | Metaldehyde
000100-00968 | Centric | Thiamethoxam
000100-01068 | Force Granular Ornamental Insecticide | Tefluthrin
000100-01188 | R & M Permethrin .25% Spray | Permethrin
000100-01189 | Cp Permethrin .20% Spray | Permethrin
000100-01205 | Prevel D | Permethrin
|  | Azoxystrobin
000100-01267 | Outplay | Mesotrione
|  | Mesotrione
000100 AZ-03-0013 | Impasse Termite Blocker | lambda-Cyhalothrin
000100 CA-06-0024 | Mertect 340-F | Thiabendazole
000100 ID-01-0005 | Discover Herbicide | Clodinafop-propargyl (CAS Reg. No.105512-06-9)
000100 ID-04-0002 | Platinum Ridomil Gold | Thiamethoxam
|  | D-Alanine, N-(2,6-dimethylphenyl)-N-(methoxyacetyl)-, methyl ester
000100 ID-04-0012 | Mertect (r) 340-F Fungicide | Thiabendazole
000100 ID-04-0013 | Mertect (r) 340-F Fungicide | Thiabendazole
000100 MS-99-0003 | Prelude Termiticide/insecticide | Permethrin
000100 MT-05-0001 | Mertect (r) 340-F Fungicide | Thiabendazole
000100 ND-03-0009 | Platinum Ridomil Gold | Thiamethoxam
|  | D-Alanine, N-(2,6-dimethylphenyl)-N-(methoxyacetyl)-, methyl ester
000100 ND-04-0008 | Mertect (r) 340-F Fungicide | Thiabendazole
000100 NE-04-0002 | Mertect 340-F Fungicide | Thiabendazole
000100 NV-01-0004 | Tilt Fungicide | Propiconazole
000100 OR-05-0001 | Dual Magnum | S-Metolachlor
000100 OR-05-0029 | Quadris Flowable Fungicide | Azoxystrobin
000100 PA-03-0003 | Dual Magnum Herbicide | S-Metolachlor
000100 PA-03-0006 | Dual Magnum Herbicide | S-Metolachlor
000100 PA-99-0003 | Dual Magnum Herbicide | S-Metolachlor
000100 UT-02-0001 | Discover Herbicide | Clodinafop-propargyl (CAS Reg. No.105512-06-9)
000100 WA-01-0010 | Discover Herbicide | Clodinafop-propargyl (CAS Reg. No.105512-06-9)
000100 WA-04-0037 | Mertect 340-F Fungicide | Thiabendazole
000100 WA-04-0038 | Mertect (r) 340-F Fungicide | Thiabendazole
000100 WA-99-0033 | Dual Magnum Herbicide | S-Metolachlor
000100 WY-02-0002 | Discover Herbicide | Clodinafop-propargyl (CAS Reg. No.105512-06-9)
000150-00061 | An-Tec 110 | Phosphoric acid
|  | Dodecylbenzenesulfonic acid
000192-00118 | Dexol Lawn Weed Killer | Benzoic acid, 3,6-dichloro-2-methoxy-, compd with N-methylmethanamine (1:1)
|  | 2,4-D, dimethylamine salt
|  | Mecoprop, dimethylamine salt
000228-00297 | Riverside Veteran (r) Cst Herbicide | Benzoic acid, 3,6-dichloro-2-methoxy-, compd with N-methylmethanamine (1:1)
000228-00307 | Riverdale Truce 0.5g Herbicide | Imazapyr
000228-00309 | Riverdale Veteran 10g | Dicamba
000241-00385 | Pursuit W Herbicide | Ammonium salt of (+/-)-2-(4,5-dihydro-4-methyl-4-(1-methylethyl)-5-oxo-1H-imidazol-2-yl)-5-e
000241-00386 | Pursuit W Dg Herbicide | Imazethapyr
000241 AZ-03-0007 | Prowl 3.3 EC Herbicide | Pendimethalin
000241 CA-01-0026 | Prowl 3.3 EC Herbicide | Pendimethalin
000241 CA-06-0021 | Prowl H2O Herbicide | Pendimethalin
000241 CO-00-0001 | Prowl 3.3 EC Herbicide | Pendimethalin
000241 CO-06-0001 | Prowl H2O Herbicide | Pendimethalin
000241 CO-98-0014 | Prowl 3.3 EC Herbicide | Pendimethalin
000241 FL-00-0003 | Acrobat MZ Fungicide | Mancozeb
|  | Dimethomorph
000241 FL-06-0001 | Clearcast Herbicide | Imazamox
000241 GA-99-0004 | Acrobat MZ Fungicide | Mancozeb
|  | Dimethomorph
000241 ID-06-0006 | Prowl H2O Herbicide | Pendimethalin
000241 ID-06-0008 | Prowl H2O Herbicide | Pendimethalin
000241 ID-93-0012 | Prowl 3.3 EC Herbicide | Pendimethalin
000241 MS-01-0011 | Backdraft Herbicide | Glyphosate-isopropylammonium
|  | Imazaquin
000241 MT-06-0004 | Prowl H2O Herbicide | Pendimethalin
000241 MT-93-0003 | Prowl 3.3 EC Herbicide | Pendimethalin
000241 NV-06-0002 | Prowl H2O Herbicide | Pendimethalin
000241 NV-06-0003 | Helena Pendimethalin | Pendimethalin
000241 NV-92-0004 | Prowl 3.3 EC Herbicide | Pendimethalin
000241 TX-08-0002 | Prowl H2o Herbicide | Pendimethalin
000241 UT-96-0004 | Prowl 3.3 EC Herbicide | Pendimethalin
000241 WA-06-0020 | Prowl H2O Herbicide | Pendimethalin
000241 WA-07-0002 | Prowl H2O Herbicide | Pendimethalin
000241 WY-05-0005 | Prowl 3.3 EC Herbicide | Pendimethalin
000241 WY-92-0005 | Prowl 3.3 EC Herbicide | Pendimethalin
000264 AL-00-0003 | Stratego Fungicide | Propiconazole
|  | Trifloxystrobin
000264 AL-06-0001 | Ignite 280 SL Herbicide | Glufosinate
000264 AR-01-0005 | Stratego Fungicide | Propiconazole
|  | Trifloxystrobin
000264 AZ-01-0003 | Buctril 4EC Herbicide | Bromoxynil octanoate
|  | Heptanoic acid, 2,6-dibromo-4-cyanophenyl ester
000264 AZ-06-0006 | Ignite 280 SL Herbicide | Glufosinate
000264 CA-01-0007 | Admire 2 Flowable | Imidacloprid
000264 CA-01-0012 | Buctril 4EC Herbicide | Bromoxynil octanoate
|  | Heptanoic acid, 2,6-dibromo-4-cyanophenyl ester
000264 CA-99-0002 | Admire 2 Flowable | Imidacloprid
000264 CO-02-0001 | Balance 4SC Herbicide | Methanone,(5-cyclopropyl-4-isoxazolyl)[2-(methylsulfonyl)-4-(trifluoromethyl)phenyl]-
000264 CO-03-0004 | Balance Herbicide | Methanone,(5-cyclopropyl-4-isoxazolyl)[2-(methylsulfonyl)-4-(trifluoromethyl)phenyl]-
000264 DE-02-0002 | Stratego Fungicide | Propiconazole
|  | Trifloxystrobin
000264 GA-01-0002 | Stratego Fungicide | Propiconazole
|  | Trifloxystrobin
000264 ID-05-0001 | Rely Herbicide | Glufosinate
000264 ID-05-0009 | Stratego Fungicide | Propiconazole
|  | Trifloxystrobin
000264 ID-90-0003 | Gustafson LSP Flowable Fungicide | Thiabendazole
000264 ID-90-0018 | Gustafson LSP Flowable Fungicide | Thiabendazole
000264 IN-02-0001 | Stratego Fungicide | Propiconazole
|  | Trifloxystrobin
000264 KS-05-0003 | Stratego Fungicide | Propiconazole
|  | Trifloxystrobin
000264 LA-05-0015 | Liberty 280 SL Herbicide | Glufosinate
000264 LA-06-0008 | Baythroid XL | beta-cyfluthrin
000264 MD-02-0001 | Stratego Fungicide | Propiconazole
|  | Trifloxystrobin
000264 MI-88-0007 | Thiram 50 WP | Thiram
000264 MN-01-0007 | Stratego Fungicide | Propiconazole
|  | Trifloxystrobin
000264 MN-05-0002 | Option Corn Herbicide | N,N-Dimethyl-2-?3-(4,6-dimethoxypyrimidin-2-yl)ureidosulfonylU-4-formylaminobenzamide
000264 MO-00-0003 | Balance 4SC Herbicide | Methanone,(5-cyclopropyl-4-isoxazolyl)[2-(methylsulfonyl)-4-(trifluoromethyl)phenyl]-
000264 MO-01-0003 | Stratego Fungicide | Propiconazole
|  | Trifloxystrobin
000264 MO-03-0002 | Admire 2 Flowable | Imidacloprid
000264 MO-05-0011 | Ignite 280 SL Herbicide | Glufosinate
000264 MO-99-0001 | Balance Herbicide | Methanone,(5-cyclopropyl-4-isoxazolyl)[2-(methylsulfonyl)-4-(trifluoromethyl)phenyl]-
000264 MS-05-0024 | Ignite 280 SL Herbicide | Glufosinate
000264 MS-06-0012 | Baythroid XL | beta-cyfluthrin
000264 NC-06-0001 | Ignite 280 SL Herbicide | Glufosinate
000264 NC-88-0001 | Di-Syston 15% Granular Systemic Insecticide | Disulfoton
000264 NC-92-0011 | Di-Syston 15% Granular Systemic Insecticide | Disulfoton
000264 ND-04-0009 | Stratego Fungicide | Propiconazole
|  | Trifloxystrobin
000264 ND-05-0003 | Option Corn Herbicide | N,N-Dimethyl-2-?3-(4,6-dimethoxypyrimidin-2-yl)ureidosulfonylU-4-formylaminobenzamide
000264 ND-99-0006 | Gustafson Lsp Flowable Fungicide | Thiabendazole
000264 NJ-05-0001 | Admire 2 Flowable Insecticide | Imidacloprid
000264 NM-03-0001 | Admire 2 Flowable | Imidacloprid
000264 OH-02-0001 | Stratego Fungicide | Propiconazole
|  | Trifloxystrobin
000264 OK-02-0002 | Stratego Fungicide | Propiconazole
|  | Trifloxystrobin
000264 OR-07-0021 | Mocap EC Nematicide - Insecticide | Ethoprop
000264 OR-90-0002 | Gustafson Lsp Flowable Fungicide | Thiabendazole
000264 OR-93-0008 | Gustafson Lsp Flowable Fungicide | Thiabendazole
000264 SC-05-0003 | Liberty 280 SL Herbicide | Glufosinate
000264 SD-00-0004 | Domain | Metribuzin
|  | Flufenacet
000264 SD-00-0010 | Sencor DF 75% Dry Flowable Herbicide | Metribuzin
000264 SD-01-0003 | Flufenacet DF Herbicide | Flufenacet
000264 SD-01-0005 | Gustafson LSP Flowable Fungicide | Thiabendazole
000264 SD-06-0002 | Sencor DF 75% Dry Flowable Herbicide | Metribuzin
000264 SD-99-0001 | Balance Herbicide | Methanone,(5-cyclopropyl-4-isoxazolyl)[2-(methylsulfonyl)-4-(trifluoromethyl)phenyl]-
000264 TN-05-0008 | Liberty 280 SL Herbicide | Glufosinate
000264 TX-01-0009 | Stratego Fungicide | Propiconazole
|  | Trifloxystrobin
000264 TX-01-0011 | Buctril 4EC Herbicide | Bromoxynil octanoate
|  | Heptanoic acid, 2,6-dibromo-4-cyanophenyl ester
000264 TX-03-0011 | Guthion Solupak 50% Wettable Powder Insecticide | Azinphos-Methyl
000264 TX-07-0014 | Oberon 4 SC Insecticide/miticide | Spiromesifen
000264 VA-01-0002 | Stratego Fungicide | Propiconazole
|  | Trifloxystrobin
000264 VA-06-0001 | Ignite 280 SL Herbicide | Glufosinate
000264 VT-06-0023 | Gustafson 42-S Thiram Fungicide | Thiram
000264 WA-03-0015 | Stratego Fungicide | Propiconazole
|  | Trifloxystrobin
000264 WA-03-0022 | Axiom DF Herbicide | Metribuzin
|  | Flufenacet
000264 WA-04-0015 | Di-Syston 8 Emulsifiable Systemic Insecticide | Disulfoton
000264 WA-90-0029 | Gustafson Lsp Flowable Fungicide | Thiabendazole
000264 WI-99-0014 | Rovral 4 Flowable Fungicide | Iprodione
000264 WV-07-0001 | Provado 1.6 Flowable Insecticide | Imidacloprid
000264 WV-93-0001 | Tempo 20 WP | Cyfluthrin
000264 WY-01-0001 | Sencor DF 75% Dry Flowable Herbicide | Metribuzin
000264 WY-05-0003 | Stratego Fungicide | Propiconazole
|  | Trifloxystrobin
000279-03127 | Biflex 5 T Insecticide | Bifenthrin
000279-03159 | Talstar Plant RTU Insecticide/miticide | Bifenthrin
000279 AR-04-0004 | Aim EC Herbicide | Carfentrazone-ethyl
000279 AR-07-0001 | Command 3ME Microencapsulated Herbicide | Clomazone
000279 AZ-90-0010 | Capture 2 EC | Bifenthrin
000279 CO-06-0004 | Capture 2 EC Insecticide/miticide | Bifenthrin
000279 GA-04-0006 | Aim 2 EC | Carfentrazone-ethyl
000279 IA-04-0001 | Mustang Max | Zeta-Cypermethrin
000279 ID-04-0004 | Z-Cype 0.8 EC Insecticide | Zeta-Cypermethrin
000279 IL-04-0005 | Z-Cype 0.8 EC Insecticide | Zeta-Cypermethrin
000279 LA-04-0009 | Aim EC Herbicide | Carfentrazone-ethyl
000279 MN-03-0001 | Z-Cype 0.8 EC Insecticide | Zeta-Cypermethrin
000279 MN-03-0002 | Aim Herbicide | Carfentrazone-ethyl
000279 MS-04-0018 | Aim EC Herbicide | Carfentrazone-ethyl
000279 MT-03-0001 | Z-Cype 0.8 EC Insecticide | Zeta-Cypermethrin
000279 ND-03-0003 | Z-Cype 0.8 EC Insecticide | Zeta-Cypermethrin
000279 NE-03-0001 | Z-Cype 0.8 EC Insecticide | Zeta-Cypermethrin
000279 OH-03-0002 | Z-Cype 0.8 EC Insecticide | Zeta-Cypermethrin
000279 TX-04-0025 | Aim EC Herbicide | Carfentrazone-ethyl
000279 WY-03-0003 | Z-Cype 0.8 EC Insecticide | Zeta-Cypermethrin
000352-00524 | Dupont Escort RP Herbicide | Metsulfuron
000352-00525 | Dupont Pinnacle Herbicide | Thifensulfuron
000352-00539 | Dupont Pinnacle Agtab Herbicide | Thifensulfuron
000352-00561 | Dupont Concert SP Herbicide | Thifensulfuron
|  | Chlorimuron
000352-00563 | Dupont Concert Herbicide | Thifensulfuron
|  | Chlorimuron
000352-00580 | Dupont Reliance STS Sp Herbicide | Thifensulfuron
|  | Chlorimuron
000352-00584 | Dupont Reliance STS Herbicide | Thifensulfuron
|  | Chlorimuron
000352-00696 | Gibbex 4% | Gibberellic acid
000352-00697 | Gibbex 20SP | Gibberellic acid
000352-00708 | Mepex Plus-CP | Gibberellic acid
|  | Indole-3-butyric acid
|  | Mepiquat chloride
|  | Cytokinin (as kinetin)
000352 LA-01-0018 | Dupont Lannate SP Insecticide | Methomyl
000352 LA-01-0019 | Dupont Lannate LV Insecticide | Methomyl
000352 MN-01-0011 | Super Tin 80WP | Fentin hydroxide
000352 MN-02-0005 | Dupont Assure II Herbicide | Propanoic acid, 2-4-(6-chloro-2-quinoxalinyl)oxyphenoxyU-, ethylester, (R)-
000352 MN-07-0004 | Super Tin 4l Fungiciide | Fentin hydroxide
000352 MT-01-0004 | Super Tin 80WP | Fentin hydroxide
000352 ND-01-0010 | Super Tin 80WP | Fentin hydroxide
000352 ND-07-0001 | Super Tin 4L Fungicide | Fentin hydroxide
000352 ND-07-0002 | Super Tin 4L Fungicide | Fentin hydroxide
000400-00482 | Stifle | Maleic hydrazide, potassium salt
|  | Butralin
000400 AZ-03-0010 | Terramaster 4EC | Etridiazole
000400 LA-01-0011 | Dimilin 25W for Cotton/Soybean | Diflubenzuron
000400 OK-08-0014 | Comite Agricultural Miticide | Propargite
000400 OR-03-0006 | Comite Agricultural Miticide | Propargite
000400 OR-03-0017 | Comite Agricultural Miticide | Propargite
000400 OR-03-0018 | Dimilin 2L | Diflubenzuron
000400 OR-03-0020 | Comite Agricultural Miticide | Propargite
000400 OR-03-0021 | Dimilin 2L | Diflubenzuron
000400 OR-03-0026 | Comite Agricultural Miticide | Propargite
000400 OR-03-0027 | Comite Agricultural Miticide | Propargite
000400 OR-04-0001 | Comite Agricultural Miticide | Propargite
000400 OR-04-0036 | Comite | Propargite
000400 WI-03-0001 | Comite Agricultural Miticide | Propargite
000400 WY-02-0001 | Comite Agricultural Miticide | Propargite
000464-00697 | Uconex 315 Antimicrobial | Glutaraldehyde
000464-00698 | Uconex 345 Antimicrobial | Glutaraldehyde
000538-00200 | Scotts Turf Manager | Mefluidide
|  | Paclobutrazol
000538-00220 | Private Label Weed and Feed | 2-4,D
|  | Mecoprop-P
000655-00794 | Prentox Malathion 57% E.C. | Malathion
000777-00087 | Tulsa | Benzyl benzoate
000777-00088 | Benzyl Benzoate | Benzyl benzoate
000802-00549 | Lilly/Miller Slug, and Snail 'em Bait | Metaldehyde
000833-00075 | Afco 4335 LF Tops Acid Sanitizer | Phosphoric acid
|  | Dodecylbenzenesulfonic acid
001381-00175 | Teamwork + MCPE | MCPA, 2-ethylhexyl ester
|  | Carfentrazone-ethyl
001381 VA-05-0005 | Arctic 3.2 EC | Permethrin
001448-00356 | Bulab 6058 | 2,4-Imidazolidinedione, 1-bromo-3-chloro-5,5-dimethyl-
001448-00385 | Tulab 6087 | 2,2-Dibromo-3-nitrilopropionamide
001529-00057 | Bodoxin | 5-Chloro-2-methyl-3(2H)-isothiazolone
|  | 2-Methyl-3(2H)-isothiazolone
001706-00055 | Cuprose Algaecide | Copper sulfate pentahydrate
001839-00013 | BTC 2125 Concentrated Germicide | Alkyl* dimethyl benzyl ammonium chloride *(60%C14, 30%C16, 5%C18, 5%C12)
|  | Alkyl* dimethyl ethylbenzyl ammonium chloride *(50%C12, 30%C14, 17%C16, 3%C18)
001839-00020 | BTC-2125 P40 | Alkyl* dimethyl benzyl ammonium chloride *(60%C14, 30%C16, 5%C18, 5%C12)
|  | Alkyl* dimethyl ethylbenzyl ammonium chloride *(50%C12, 30%C14, 17%C16, 3%C18)
001839-00025 | BTC 471 | Alkyl* dimethyl ethylbenzyl ammonium chloride *(50%C12, 30%C14, 17%C16, 3%C18)
001839-00034 | BTC 2125-80% | Alkyl* dimethyl benzyl ammonium chloride *(60%C14, 30%C16, 5%C18, 5%C12)
|  | Alkyl* dimethyl ethylbenzyl ammonium chloride *(50%C12, 30%C14, 17%C16, 3%C18)
001839-00042 | So/San 30 Concentrated Softener Sanitizer for Mfg. Use | Alkyl* dimethyl benzyl ammonium chloride *(60%C14, 30%C16, 5%C18, 5%C12)
|  | Alkyl* dimethyl ethylbenzyl ammonium chloride *(50%C12, 30%C14, 17%C16, 3%C18)
001839-00058 | So/San 66M | Alkyl* dimethyl benzyl ammonium chloride *(60%C14, 30%C16, 5%C18, 5%C12)
|  | Alkyl* dimethyl ethylbenzyl ammonium chloride *(68%C12, 32%C14)
001839-00067 | BTC 2568 | Alkyl* dimethyl benzyl ammonium chloride *(60%C14, 25%C12, 15%C16)
001910-00001 | Legear Mange Treatment | Benzyl benzoate
001965-00011 | Vancide 89 | Captan
002217-00546 | Maneb 80w Fungicide | Maneb
002217-00763 | Embark 1-S Plant Growth Regulator | Acetamide,N-(2,4-dimethyl-5-(((trifluoromethyl) sulfonyl)amino)phenyl)-, compd. with 2,2'imi
002217-00765 | Embark 1-L Plant Growth Regulator | N-(2,4-Dimethyl-5 -(((trifluoromethyl) sulfonyl)amino)phenyl) acetamide, potassium salt
002217-00787 | Embark R-T-U Northern | Acetamide,N-(2,4-dimethyl-5 -(((trifluoromethyl) sulfonyl)amino)phenyl)-, compd. with 2,2'imi
002217-00788 | Embark R-T-U Southern | Acetamide,N-(2,4-dimethyl-5-(((trifluoromethyl) sulfonyl)amino)phenyl)-, compd. with 2,2'imi
002217-00807 | EH1312 Herbicide | Benzoic acid, 3,6-dichloro-2-methoxy-, compd with N-methylmethanamine (1:1)
|  | 2,4-D, diethanolamine salt
|  | 2,4-D, dimethylamine salt
|  | Propanoic acid, 2-(4-chloro-2-methylphenoxy)-, (R)-, compd. with N-methylmethanamine (1:1)
002217-00809 | ER 721 | Acetamide,N-(2,4-dimethyl-5-(((trifluoromethyl)sulfonyl)amino)phenyl)-, compd. with 2,2'imi
002935 WA-06-0014 | Diazinon 14G | Diazinon
003635-00279 | Oxford D'germ Disinfectant-Toilet-Urinal Cleaner | Hydrochloric acid
|  | Phosphoric acid
|  | Dodecylbenzenesulfonic acid
003862-00153 | Towercide 5 | Poly(oxy-1,2-ethanediyl(dimethylimino)-1,2-ethanediyl(dimethylimino)-1,2-ethanediyl dichlori
004581 LA-05-0007 | Tenkoz Acephate 90 Insecticide | Acephate
004581 LA-05-0008 | Acephate 90 SP | Acephate
004822-00005 | Raid Insect Spray | MGK 264
|  | Piperonyl butoxide
|  | Pyrethrins
004822-00228 | Raid Indoor Fogger Formula VII | MGK 264
|  | Piperonyl butoxide
|  | Pyrethrins
|  | Methoprene
005174-00011 | Help Sanitizer | Phosphoric acid
|  | Dodecylbenzenesulfonic acid
005382-00038 | Vulcan Chlorine | Chlorine
005383-00047 | Troysan 364 | Tributyltin oxide
|  | 2-((Hydroxymethyl)amino)ethanol
005383-00105 | Troysan Alf4 | Carbamic acid, butyl-, 3-iodo-2-propynyl ester
|  | Carbendazim
|  | 1,3,5-Triazine-2,4-diamine,N-cyclopropyl-N'-(1,1-dimethylethyl)-6-(methylthio)-
005481-00488 | Dacthal G-2.5 Herbicide | DCPA (or chlorthal-dimethyl)
005481-00489 | Dacthal G-5 Herbicide | DCPA (or chlorthal-dimethyl)
005905-00087 | Helena Brand 2lb Chlorate Defoliant Desiccant | Sodium chlorate
005905-00216 | Helena Brand Drop-A-Sucker Tobacco Sucker Control Agent | Alcohols, Cx - Cxx
005905-00251 | Helena Sevimol 4 Carbaryl Insecticide | Carbaryl
005905-00293 | Fyfanon 25 WP | Malathion
005905-00494 | Setre Fluometuron 80 WP Herbicide | Fluometuron
006959-00098 | DDVP 20% Aerosol | Dichlorvos
007173-00256 | Metarex 2% Snail and Slug Bait | Metaldehyde
007313-00010 | Amercoat 275E Red Antifouling | Cuprous oxide
007313-00011 | Amercoat 277E Antifouling Black | Cuprous oxide
007313-00014 | Formula 121 | Cuprous oxide
007313-00015 | Formula 129 Marine Antifouling Paint Vinyl Black | Cuprous oxide
007313-00016 | S.M. Copper Anti-Fouling Paint M-078 | Cuprous oxide
007313-00017 | Fishermans' Plastic Anti-Fouling Paint M-1075 | Cuprous oxide
007313-00019 | Devrav 214-S-4987 | Cuprous oxide
007313-00021 | Devran 216-S-3873 Marine Antifouling Paint 216 Red | Cuprous oxide
007401-00027 | Ferti-Lome Weed and Grass Preventer | DCPA (or chlorthal-dimethyl)
007401-00031 | Ferti-Lome Nutgrass & Weed Killer | MSMA (and salts)
007401-00041 | Ferti-Lome Home & Garden Insect Spray | MGK 264
|  | Piperonyl butoxide
|  | Pyrethrins
007401-00042 | Ferti-Lome Lawn & Garden Fungicide | Pentachloronitrobenzene
007401-00045 | Ferti-Lome Decimate Plus Surfactant | MSMA (and salts)
007401-00052 | Lesser Peach Tree Borer Killer | Malathion
007401-00058 | Ferti-Lome Borer Killer | Malathion
007401-00084 | Ferti-Lome Liquid Fungicide for Brown Patch Control | Pentachloronitrobenzene
007401-00115 | Hi-Yield Malathion 8 Lb. Emulsifiable Concentrate | Malathion
007401-00130 | Hi-Yield Dsma Liquid Herbicide | DSMA
007401-00175 | Ferti-Lome Mosquito Spray | Malathion
007401-00183 | Poly Brand Cotton Weeder & Surfactant | MSMA (and salts)
007401-00185 | Poly Cotton Weeder Concentrate | MSMA (and salts)
007401-00194 | Hi-Yield Decimate | MSMA (and salts)
007401-00196 | Hi-Yield Decimate & Surfactant | MSMA (and salts)
007401-00197 | Ferti-Lome containing Fungicide | Pentachloronitrobenzene
007401-00198 | Hi-Yield Decimate Conc | MSMA (and salts)
007401-00206 | Hi-Yield Low Volume Malathion Concentrate | Malathion
007401-00240 | Hi-Yield Super 3a.g. | MSMA (and salts)
007401-00241 | Ferti Lome Crabgrass Preventer Plus Lawn Food | Siduron
007401-00255 | Hi-Yield 5 Lb Malathion | Malathion
007401-00257 | Ferti-Lome Malathion Spray | Malathion
007401-00273 | Hi - Yield Grain Storage Spray | Malathion
007401-00299 | Ferti-Lome Perma-Trim | Cacodylic acid
|  | Cacodylic acid, sodium salt
007401-00300 | Ferti-Lome Improved Vegetation Killer | Cacodylic acid
|  | Cacodylic acid, sodium salt
007401-00309 | Quik-Kill Ready-To-Use Weed and Grass Killer | Cacodylic acid
|  | Cacodylic acid, sodium salt
007401-00324 | Ferti-Lome Quik-Kill Concentrate Weed & Grass Killer | Cacodylic acid
|  | Cacodylic acid, sodium salt
007401-00327 | Hi-Yield Phytar 560 Herbicide | Cacodylic acid
|  | Cacodylic acid, sodium salt
007401-00332 | Ferti-Lome Bermuda Grass Weeder | MSMA (and salts)
007401-00343 | Ferti-Lome Rooting Powder | Indole-3-butyric acid
007401-00358 | Hi-Yield Herbicide | Cacodylic acid
|  | Cacodylic acid, sodium salt
|  | MSMA (and salts)
007401-00359 | High Yield Cotton Defoliant | Cacodylic acid
|  | Cacodylic acid, sodium salt
007401-00365 | Ferti-Lome Broad Spectrum Perma-Trim | Cacodylic acid
|  | Cacodylic acid, sodium salt
007401-00367 | Ferti-Lome Ready To Use Vegetable Insect Spray | Piperonyl butoxide
|  | Pyrethrins
007401-00384 | Hi-Yield Scum & Algae Control for Ponds | Copper sulfate pentahydrate
007401-00395 | American Brand Casoron Granules | Dichlobenil
007401-00432 | Bonide Disease Beater with Bayleton .5% | Triadimefon
007401-00439 | Ferti-Lome Dog-Gon Dog and Cat Repellent | Methyl nonyl ketone
007401-00446 | Hi-Yield Super-T Hf Herbicide | Trifluralin
007401-00450 | Hi-Yield Snail & Slug Killer Pellets | Metaldehyde
007401-00462 | Hi-Yield Super Concentrate Killzall | Glyphosate-isopropylammonium
007401-00465 | Ferti-Lome Tomato & Pepper Set II | Gibberellic acid
|  | Indole-3-butyric acid
007401-00467 | Hi-Yield Super Concentrate Killzall II | Glyphosate-isopropylammonium
007546-00004 | O-San | Phosphoric acid
|  | Dodecylbenzenesulfonic acid
007679-00022 | American Brand Dsma Weed Killer | DSMA
007969-00265 | Rak 3 Cm Pheromone Dispenser | (E,E)-8,10-Dodecadien-1-ol
007969 SD-03-0001 | G-Max Lite | Atrazine
|  | dimethenamide-P
007969 UT-99-0003 | Facet 75 Df Herbicide | Quinclorac
008329-00032 | Flyspray 514 | Piperonyl butoxide
|  | Pyrethrins
|  | Resmethrin
008329-00047 | Flax 10 Insecticide | Permethrin
008329-00048 | Punt 57 - OS | Permethrin
008329-00049 | Punt 5.7 OS | Permethrin
008329-00050 | Flak 2-2 RTU | Piperonyl butoxide
|  | Permethrin
008329-00051 | Flak 4-4 | Piperonyl butoxide
|  | Permethrin
008329-00064 | Mosquito Beater 4-4 | Piperonyl butoxide
|  | Permethrin
008329-00065 | Permethrin/Pbo 50/50 | Piperonyl butoxide
|  | Permethrin
008536-00001 | Brom-76 | Methyl bromide
008536-00017 | Methyl Bromide 99.75% | Methyl bromide
008622-00079 | Ambricide | Ammonium bromide
008660-00073 | Vertagreen Slug & Snail Bait | Metaldehyde
008660-00196 | Pursell Snail & Slug Killer Meal | Metaldehyde
008660-00197 | Snail & Slug Killer Pellets | Metaldehyde
008660-00250 | Sta-Gone Snail & Slug Killer Pellets | Metaldehyde
008660-00251 | Sta-Gone Snail & Slug Killer Meal | Metaldehyde
010163-00044 | Prokil Malathion ULV | Malathion
010163-00061 | Prokil Malathion 25-WP | Malathion
010163-00094 | Gowan Prometryne 4l | Prometryn
010163-00101 | Gowan Trifluralin 4 | Trifluralin
010163-00181 | Gowan Trifluralin E.c. | Trifluralin
010163-00184 | Imidan 70-WSB | Phosmet
010163-00237 | Methidathion 50S | Methidathion
010163-00238 | Supracide Insecticide-Miticide | Methidathion
010163 ID-06-0010 | Eptam 7-E | Carbamothioic acid, dipropyl-, S-ethyl ester
010163 OR-06-0001 | Eptam 7-E (for Suppression of Yellow Nutsedge) | Carbamothioic acid, dipropyl-, S-ethyl ester
011556-00126 | Advantage Plus 9 for Cats | Pyriproxyfen
|  | Imidacloprid
011556-00129 | Advantage Plus 18 for Cats | Pyriproxyfen
|  | Imidacloprid
012455-00015 | Warfarin Rat and Mouse Bait | Warfarin
012455-00022 | Liqua-Tox Liquid Concentrate | Warfarin, sodium salt
012455-00031 | Contrac Concentrate | Bromadiolone
012455-00057 | Quintox Mouse Seed | 9,10-Secocholesta-5,7,10(19)-trien-3-ol, (3.beta.,5Z,7E)-
012455-00059 | Zp Rodent Bait Place Pac | Zinc phosphide (Zn3P2)
012455-00067 | Ditrac Mouse Bait Station | Diphacinone
012455-00084 | Ditrac Rodenticide Ready To Use Place Pac | Diphacinone
012455-00085 | Mole and Gopher Bait | Zinc phosphide (Zn3P2)
012455-00100 | Fastrac Mouse Seed Place Pac | Bromethalin
012455-00103 | Contrac Bait Trays | Bromadiolone
012455 CA-97-0015 | Quintox Rat and Mouse Bait | 9,10-Secocholesta-5,7,10(19)-trien-3-ol, (3.beta.,5Z,7E)-
034704-00131 | Clean Crop Mcpp Green | MCPP-P-potassium
034704-00367 | Summer Flowable Emulsion Light-Medium Insecticide | Aliphatic petroleum solvent
034704-00372 | Niagara Summer Quik Mix, Light Medium Code R-292 | Aliphatic petroleum solvent
034704-00383 | Citrus Soluble Oil - Heavy Medium | Aliphatic petroleum solvent
034704-00551 | Superior Spray Oil | Mineral oil - includes paraffin oil from 063503
034704-00994 | Agsco Dustret “A” | Streptomycin sulfate
|  | Maneb
034704-00997 | Agsco Dustret MZ 16 | Mancozeb
034704-00998 | Agsco DB-Red L | Maneb
034911-00002 | Hi-Yield Malathion Insect Spray | Malathion
034911-00016 | Hi-Yield Malathion Farm and Grain Spray | Malathion
034911-00019 | Hi-Yield Improved Liquid Edger | Cacodylic acid
|  | Cacodylic acid, sodium salt
034911-00020 | Hi-Yield Killzall Weed & Grass Killer | Cacodylic acid
|  | Cacodylic acid, sodium salt
040510-00001 | Disinfectant, Food Service | Potassium iodide
|  | Trichloromelamine
043591-00003 | VPL AABSFlyrepel 793 | Piperonyl butoxide
|  | Pyrethrins
043591-00004 | VPL Dog & Cat Indoor-Outdoor Repellent Spray | Methyl nonyl ketone
044446-00052 | Shoo! Dog & Cat Repellent | Methyl nonyl ketone
044446-00068 | PPP Flea & Tick Cycleblock(r) Home & Carpet Spray | MGK 264
|  | Pyrethrins
|  | Permethrin
|  | Pyriproxyfen
044446-00070 | Quest Wild Game Insecticide | Piperonyl butoxide
|  | Pyrethrins
049585-00027 | K Gro(r) Snail & Slug Bait | Metaldehyde
051036-00190 | Oxycop | Copper oxychloride sulfate
051036-00275 | Kozinc Wp | Copper hydroxide
055146-00005 | Copper Oxychloride Sulfate | Copper oxychloride sulfate
055146-00031 | Copro 57 | Copper oxychloride sulfate
055272-00008 | Micro Flo Co. Basic Copper 53 | Basic copper sulfate
055272-00009 | Microsperse 50 WP | Copper oxychloride (Cu2Cl(OH)3)
055272-00010 | Microsperse Coc 53 WP | Copper oxychloride (Cu2Cl(OH)3)
055272-00011 | Nu-Cop 40DF | Copper hydroxide
055272-00012 | Coc 40 WDG | Copper oxychloride (Cu2Cl(OH)3)
057787-00024 | Ultra-Brom | 2,4-Imidazolidinedione, 1-bromo-3-chloro-5,5-dimethyl-
061282 FL-78-0062 | Ramik Green | Diphacinone
061282 FL-88-0018 | Ramik Green | Diphacinone
062719-00166 | Dursban Pro | Chlorpyrifos
062719-00430 | Thiazopyr Technical Herbicide | Thiazopyr
062719-00431 | Visor*2E | Thiazopyr
062719 MI-94-0002 | Lorsban 4E-HF | Chlorpyrifos
062719 OR-06-0011 | Rally 40W | Myclobutanil
064328-00001 | Advance-LF | Phosphoric acid
|  | Dodecylbenzenesulfonic acid
066222 AR-01-0008 | Galigan 2E | Oxyfluorfen
066222 AZ-06-0009 | Alias 2F Flowable Insecticide | Imidacloprid
066222 CA-07-0012 | Ethephon 2SL Growth Regulator | Ethephon
066222 MS-01-0039 | Galigan 2E | Oxyfluorfen
066222 OR-06-0023 | Abamectin 0.15 EC | Abamectin
066330-00042 | TM-42503 | Methane, iodo-
|  | Chloropicrin
066330 CO-00-0004 | Acephate 75SP | Acephate
066330 CO-99-0012 | Dicamba Dma 4# AG | Benzoic acid, 3,6-dichloro-2-methoxy-, compd with N-methylmethanamine (1:1)
066330 CO-99-0013 | Dicamba DMA 4# AG | Benzoic acid, 3,6-dichloro-2-methoxy-, compd with N-methylmethanamine (1:1)
066330 CO-99-0014 | Dicamba DMA 4# AG | Benzoic acid, 3,6-dichloro-2-methoxy-, compd with N-methylmethanamine (1:1)
066330 WA-99-0036 | Ethepon 2# | Ethephon
070506-00082 | Agvalue-Bromacil, LLC / Agvalue Bromacil Technical | Bromacil
070506-00083 | Bromo Herbicide | Bromacil
070506-00084 | Bromo-D Herbicide | Bromacil
|  | Diuron
070506-00169 | Imazapyr 4F Herbicide | 2-(4,5-Dihydro-4-methyl-4-(1-methylethyl)-5-oxo-1H-imidazol-2-yl)-3-pyridinecarboxylic acid
070506 WA-04-0003 | Penncozeb 75 DF | Mancozeb
070506 WA-96-0006 | Aquathol K | Endothal-dipotassium
071085 AR-06-0002 | Wham! EZ | Propanil
071085 AR-06-0003 | Riceshot | Propanil
071085 AR-07-0002 | Superwham! (alternate Name for Wham! EZ) | Propanil
071085 AR-07-0003 | Duet | Propanil
|  | Bensulfuron-methyl
071085 AR-07-0004 | Riceshot | Propanil
071085 AR-07-0005 | Superwham! Wham ! EZ | Propanil
071085 AR-07-0006 | Ricepro | Propanil
|  | Quinclorac
071096-00008 | Snail & Slug Pellets | Metaldehyde
071096-00012 | Lilly/Miller Go West Slug Killer | Metaldehyde
071711 CO-03-0005 | Applaud 70WP | Buprofezin
071711 PA-02-0002 | Talus Insect Growth Regulator | Buprofezin
073545 MN-04-0006 | Topsin M WSB | Thiophanate-methyl
074530-00015 | Bakker Herbicide | 4-(2,4-Dichlorophenoxy)butyric acid
074530-00017 | Hellion 175 Broadleaf Herbicide | Dimethylamine 4-(2,4-dichlorophenoxy)butyrate
081402-00002 | Traveler's Supply Inc. Permethrin Clothing & Gear | Permethrin
081880 AR-08-0010 | Permit Herbicide | Halosulfuron-methyl
081880 LA-08-0005 | Permit Herbicide | Halosulfuron-methyl
081880 MO-08-0003 | Permit Herbicide | Halosulfuron-methyl
081880 MS-08-0003 | Permit Herbicide | Halosulfuron-methyl
081880 TX-08-0005 | Permit Herbicide | Halosulfuron-methyl
083362-00001 | Prehatch (tm) SG Biological Larvicide Sand Granules | Bacillus thuringiensis subsp. israelensis

A request to waive the 180-day comment period has been received for the following registrations: 000655-00794; 005481-00488; 005481-00489; 008622-00079; 011556-00126; 011556-00129; 034704-00367; 034704-00372; 034704-00383; 034704-00551; 070506-00082; 070506-00083; 070506-00084; ; 070506-00169; 071085 AR-06-0002; 071085 AR-06-0003; 071085 AR-07-0002; 071085 AR-07-0003; 071085 AR-07-0004; 071085 AR-07-0005; 071085 AR-07-0006; 083362-00001.

Unless a request is withdrawn by the registrant within 180 days of publication of this notice, orders will be issued canceling all of these registrations. Users of these pesticides or anyone else desiring the retention of a registration should contact the applicable registrant directly during this 180-day period.

Table 2 of this unit includes the names and addresses of record for all registrants of the products in Table 1 of this unit, in sequence by EPA company number:

Table 2—Registrants Requesting Voluntary Cancellation
EPA Company no. | Company Name and Address
000004 | Bonide Products, Inc., 6301 Sutliff Rd., Oriskany, NY 13424.
000100 | Syngenta Crop Protection, Inc., Attn: Regulatory Affairs, PO Box 18300, Greensboro, NC 27419-8300.
000150 | Anderson Chemical Co., Attn: Kelly Schultz, 325 South Davis Ave., Litchfield, MN 55355.
000192 | Value Gardens Supply, LLC, d/b/a Value Garden Supply, PO Box 585, Saint Joseph, MO 64502.
000228 | Nufarm Americas Inc., 150 Harvester Drive, Suite 200, Burr Ridge, IL 60527.
000241 | BASF Corp., PO Box 13528, Research Triangle Park, NC 27709-3528.
000264 | Bayer Cropscience LP, 2 T.W. Alexander Drive, Research Triangle Park, NC 27709.
000279 | FMC Corp. Agricultural Products Group, Attn: Michael C. Zucker, 1735 Market St, Rm 1978, Philadelphia, PA 19103.
000352 | E.I. Du Pont De Nemours & Co Inc., Dupont Crop Protection (s300/427), PO Box 30, Newark, DE 19714-0030.
000400 | Chemtura Corp., Attn: Crop Registration, 199 Benson Rd. (2-5), Middlebury, CT 06749.
000464 | The Dow Chemical Co., Agent For: Dow Chemical Co., The, 1500 E. Lake Cook Rd., Buffalo Grove, IL 60089.
000538 | Scotts Co., The, 14111 Scottslawn Rd, Marysville, OH 43041.
000655 | Prentiss Inc., C.B. 2000, Floral Park, NY 11001-2000.
000777 | Reckitt Benckiser Inc., Morris Corporate Center IV, 399 Interpace Parkway, Parsippany, NJ 07054-0225.
000802 | Registrations By Design, Inc., Agent For: Central Garden and Pet d/b/a Lilly MiLL, 1181/2 E. Main St., Suite 1, Salem, VA 24153-3805.
000833 | Alex C. Fergusson, Inc., 5000 Letterkenny Rd., Suite 220, Chambersburg, PA 17201.
001381 | Winfield Solutions, LLC, PO Box 64589, St. Paul, MN 55164-0589.
001448 | Buckman Laboratories Inc., 1256 North Mclean Blvd, Memphis, TN 38108.
001529 | International Specialty Products, c/o Sangeeta V. Khattar, 1361 Alps Rd., Wayne, NJ 07470.
001706 | Nalco Co., 1601 W. Diehl Rd., Naperville, IL 60563-1198.
001839 | Stepan Co., 22 W. Frontage Rd., Northfield, IL 60093.
001910 | Regwest Co., LLC, Agent For: Goodwinol Products Corp., 30856 Rocky Rd., Greeley, CO 80631-9375.
001965 | R.T. Vanderbilt Co Inc., 30 Winfield St, Norwalk, CT 06856-5150.
002217 | PBI/Gordon Corp., PO Box 014090, Kansas City, MO 64101-0090.
002935 | Wilbur Ellis Co., PO Box 1286, Fresno, CA 93715.
003635 | Johnsondiversey, Inc., 8310 16th Street, Sturtevant, WI 53177.
003862 | ABC Compounding Co, Inc., PO Box 16247, Atlanta, GA 30321-0247.
004581 | Cerexagri, Inc., 630 Freedom Business Center, Suite 402, King Of Prussia, PA 19406.
004822 | S.C. Johnsona and Son Inc., 1525 Howe Street, Racine, WI 53403.
005174 | Devere Co., Inc., PO Box 8444, Janesville, WI 53547-8444.
005382 | Basic Chemicals Co., LLC, 5005 Lbj Freeway, Dallas, TX 75244.
005383 | Troy Chemical Corp., PO Box 955, Florham Park, NJ 07932-4200.
005481 | Amvac Chemical Corp., d/b/a Amvac, 4695 Macarthur Ct., Suite 1250, Newport Beach, CA 92660-1706.
005905 | Helena Chemical Co., 7664 Moore Rd., Memphis, TN 38120.
006959 | Cessco Inc., 3609a River Rd, Johns Island, SC 29455.
007173 | Liphatech, Inc., 3600 W. Elm Street, Milwaukee, WI 53209.
007313 | PPG Industries, Inc., Agent For: PPG Architectural Finishes, Inc., 4325 Rosanna Drive, Allison Park, PA 15101.
007401 | Mandava Associates, LLC, Agent For: Voluntary Purchasing Groups, Inc., 6860 N. Dallas Pkwy., Suite 200, Plano, TX 75024.
007546 | U.S. Chemical Corp., 316 Hart Street, Watertown, WI 53094-6616.
007679 | Mandava Associates, Llc, Agent For: American Brand Chemical Co., 6860 N. Dallas Pkwy., Suite 200, Plano, TX 75024.
007969 | Basf Corp., Agricultural Products, PO Box 13528, Research Triangle Park, NC 27709-3528.
008329 | Clarke Mosquito Control Products, Inc., PO Box 72197, Roselle, IL 60172.
008536 | Soil Chemicals Corp., d/b/a Cardinal Professional Products, PO Box 782, Hollister, CA 95024.
008622 | ICl-IP America, Inc., 95 Maccorkle Ave. Southwest, South Charleston, WV 25303-1411.
008660 | United Industries Corp., d/b/a Sylorr Plant Corp., PO Box 142642, St. Louis, MO 63114-0642.
010163 | Gowan Co, PO Box 5569, Yuma, AZ 85366-5569.
011556 | Bayer Healthcare LLC, Animal Health Division, PO Box 390, Shawnee Mission, KS 66201-0390.
012455 | Bell Laboratories, Inc., 3699 Kinsman Blvd, Madison, WI 53704.
034704 | Loveland Products, Inc., Attn: Mark R. Trostle, PO Box 1286, Greeley, CO 80632-1286.
034911 | Mandava Associates, LLC, Agent For: Hi-Yield Chemical Co., 6860 N. Dallas Pkwy., Suite 200, Plano, TX 75024.
040510 | US Army Research, Development and Engineering Command, Natick Soldier Center, 15 Kansas Street, Attn:amsrd-Nsc-Cf-P, Natick, MA 01760-5018.
043591 | Veterinary Products Laboratories, PO Box 34820, Phoenix, AZ 85067.
044446 | Quest Chemical Corp., 12255 F.M. 529 Northwoods Industrial Park, Houston, TX 77041.
049585 | Alljack, Division of United Industries Corp., PO Box 142642, St Louis, MO 63114-0642.
051036 | BASF Sparks LLC, PO Box 13528, Research Triangle Park, NC 27709-3528.
055146 | Nufarm Americas Inc., AGT Division, 150 Harvester Drive Suite 200, Burr Ridge, IL 60527.
055272 | Ensayo Consulting, Agent For: Ingenieria Industrial SA DE CV, 2838 Ulster St., Denver, CO 80238.
057787 | Haviland Consumer Products, Inc., d/b/a Haviland Consumer Products, 421 Ann Street, Nw, Grand Rapids, MI 49504-2075.
061282 | Hacco, Inc., 110 Hopkins Drive, Randolph, WI 53956-1316.
062719 | Dow Agrosciences LLC, 9330 Zionsville Rd 308/2e, Indianapolis, IN 46268-1054.
064328 | International Chemical Corp., PO Box 120066, Melbourne, FL 32912-0066.
066222 | Makhteshim-Agan of North America Inc., 4515 Falls of Neuse Rd, Suite 300, Raleigh, NC 27609.
066330 | Arysta Lifescience North America, LLC, 15401 Weston Parkway, Suite 150, Cary, NC 27513.
070506 | United Phosphorus, Inc., 630 Freedom Business Center, Suite 402, King Of Prussia, PA 19406.
071085 | Riceco LLC, 5100 Poplar Ave - Ste 2428, Memphis, TN 38137.
071096 | Regulatory Services, Inc., Agent For: Or-Cal Inc., 17220 Westview Rd., Oswego, OR 97034.
071711 | Nichino America, Inc., 4550 New Linden Hill Rd., Suite 501, Wilmington, DE 19808.
073545 | United Phosphorus, Inc., Agent For: Nisso TM LLC, 630 Freedom Business Cntr, St 402, King Of Prussia, PA 19406.
074530 | Helm Agro US, Inc., 8295 Tournament Drive, Suite 310, Memphis, TN 38125.
081402 | Traveler's Supply, Inc., 2024R Westover Rd., Chicopee, MA 01022.
081880 | Canyon Group LLC, c/o Gowan Co., 370 S. Main Street, Yuma, AZ 85364.
083362 | B2E Microbials, LLC, 3330 Noyac Rd., Bdlg. D, Sag Harbor, NY 11963.

III. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

IV. Procedures for Withdrawal of Request

Registrants who choose to withdraw a request for cancellation must submit such withdrawal in writing to the person listed under FOR FURTHER INFORMATION CONTACT, postmarked before September 14, 2009. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1 year after the date the cancellation request was received. This policy is in accordance with the Agency's statement of policy as prescribed in the Federal Register of June 26, 1991 (56 FR 29362) (FRL-3846-4). Exceptions to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a special review action, or where the Agency has identified significant potential risk concerns associated with a particular chemical.

List of Subjects

Environmental protection, Pesticides and pests.

Dated: March 11, 2009.
Kathryn Bouvé
Director, Information Technology and Resources Management Division; Office of Pesticide Programs.

[FR Doc. E9-5828 Filed 3-17-09; 8:45 am]

BILLING CODE 6560-50-S